DEPARTMENT OF THE INTERIOR

National Park Service

Forever/NPC Resorts; Correction

AGENCY: National Park Service, Interior.

ACTION: Notice.

SUMMARY: Pursuant to 36 CFR 51.23, notice is hereby given that the National Park Service intends to extend the following expiring concession contract for a period of up to one year, or until such time as a new contract is awarded, whichever occurs sooner.

SUPPLEMENTARY INFORMATION: The concession authorization expires by its terms on December 31, 2002. The National Park Service has determined that the proposed short-term extension is necessary in order to avoid interruption of visitor services and has taken all reasonable and appropriate steps to consider alternatives to avoid such interruption. This extension will allow the National Park Service to complete and issue a prospectus leading to the competitive selection of concessioners for a long-term concession contract covering this operation.

Concessioner ID No. | Concessioner name
CC-WASO001-82 | Forever/NPC Resorts, LLC

EFFECTIVE DATE: January 1, 2003.

FOR FURTHER INFORMATION CONTACT: Cynthia Orlando, Concession Program Manager, National Park Service, Washington, DC, 20240, Telephone 202-513-7144.

Dated: February 14, 2003.
Richard G. Ring,
Associate Director, Administration, Business Practices and Workforce Development.

[FR Doc. 03-16798 Filed 7-3-03; 8:45 am]

BILLING CODE 4312-53-M